DEPARTMENT OF DEFENSE

Defense Acquisition Regulations System

48 CFR Parts 212, 215, 216, and 225

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective May 10, 2016.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows—

1. Corrects cross references at DFARS 212.301(f)(xvi), Acquisition of Information Technology, in paragraphs (A) and (B);

2. Directs contracting officers to additional DFARS Procedures, Guidance, and Information (PGI) by adding a cross reference at DFARS 215.300 and updates the date of the Director, Defense Procurement and Acquisition Policy memorandum entitled “Department of Defense Source Selection Procedures”;

3. Corrects a threshold at DFARS 215.408(3)(ii)(A)(1)(i) to reflect $750,000 in lieu of $700,000 that was inadvertently omitted in the inflation adjustment DFARS Case 2014-D025 published in the Federal Register at 80 FR 36903;

4. Adds DFARS section 216.104 to provide guidance concerning selection and negotiation of the most appropriate contract type and also directs contracting officers to additional PGI coverage.

5. Redesignates paragraphs within DFARS 225.7003-2 to add a new paragraph (b) to provide an internet link for more information on specialty metals restrictions and reporting of noncompliances.

List of Subjects in 48 CFR 212, 215, 216, and 225

Government procurement.

Jennifer L. Hawes,
Editor, Defense Acquisition Regulations System.

Therefore, 48 CFR parts 212, 215, 216, and 225 are amended as follows:

1. The authority citation for 48 CFR parts 212, 215, 216, and 225 continues to read as follows:

Authority: 41 U.S.C. 1303 and 48 CFR chapter 1.

PART 212—ACQUISITION OF COMMERCIAL ITEMS

212.301 [AMENDED]

2. Amend section 212.301, in paragraphs (f)(xvi)(A) and (B), by removing “239.7603(a)” and “239.7603(b)” and adding “239.7604(a)” and “239.7604(b)” in each place, respectively.

PART 215—CONTRACTING BY NEGOTIATION

3. Revise section 215.300 to read as follows:

215.300 Scope of subpart.

Contracting officers shall follow the principles and procedures in Director, Defense Procurement and Acquisition Policy memorandum dated April 1, 2016, entitled “Department of Defense Source Selection Procedures,” when conducting negotiated, competitive acquisitions utilizing FAR part 15 procedures. See PGI 215.300.

215.408 [AMENDED]

4. Amend section 215.408, in paragraph (3)(ii)(A)(1)(i), by removing “$700,000” and adding “$750,000” in its place.

PART 216—TYPES OF CONTRACTS

5. Add section 216.104 to read as follows:

216.104 Factors in selecting contract type.

Contracting officers shall follow the principles and procedures in Director, Defense Procurement and Acquisition Policy memorandum dated April 1, 2016, entitled “Guidance on Using Incentive and Other Contract Types,” when selecting and negotiating the most appropriate contract type for a given procurement. See PGI 216.104.

PART 225—FOREIGN ACQUISITION

6. Amend section 225.7003-2 by—

a. Redesignating paragraphs (a) and (b) as (1) and (2), respectively;

b. Designating the introductory text as paragraph (a);

c. In the newly redesignated paragraph (1), redesignating paragraphs (1) through (6) as paragraphs (i) through (vi), respectively; and

d. Adding paragraph (b).

The addition reads as follows:

225.7003-2 Restrictions.

* * * * *

(b) For more information on specialty metals restrictions and reporting of noncompliances, see http://www.acq.osd.mil/dpap/cpic/ic/restrictions_on_specialty_metals_10_usc_2533b.html.

[FR Doc. 2016-10830 Filed 5-9-16; 8:45 am]

BILLING CODE 5001-06-P